SMALL BUSINESS ADMINISTRATION

Data Collection Available for Public Comments

ACTION: 60-day notice and request for comments.

SUMMARY: The Small Business Administration (SBA) intends to request approval, from the Office of Management and Budget (OMB) for the collection of information described below. The Paperwork Reduction Act (PRA) of 1995, 44 U.S.C. Chapter 35 requires federal agencies to publish a notice in the Federal Register concerning each proposed collection of information before submission to OMB, and to allow 60 days for public comment in response to the notice. This notice complies with that requirement.

DATES: Submit comments on or before February 22, 2016.

ADDRESSES: Send all comments to Cristina Flores, Associate Director of Public Engagement and Operations, Office of National Women's Business Council, Small Business Administration, 409 3rd Street, 5th Floor, Washington, DC 20416.

FOR FURTHER INFORMATION CONTACT: Cristina Flores, Associate Director of Public Engagement and Operations, Office of National Women's Business Council, cristina.flores@sba.gov, 202-205-6827, or Curtis B. Rich, Management Analyst, 202-205-7030, curtis.rich@sba.gov.

SUPPLEMENTARY INFORMATION: The National Women Business Council (NWBC) is conducting research in order to explore expectation, approaches, barriers and support and growth potential of young women entrepreneurs. Collection of date and analysis and assist in identifying ways in which programs may be designed to help grow as entrepreneurs. Identification and examination of potential differences between young women and older women, as well as women and men entrepreneur will be described and compared as well.

Solicitation of Public Comments: SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection:

Title: Focus Group Research: Young Women Entrepreneurs.

Description of Respondents: Women Entrepreneurs.

Form Number: N/A.

Total Estimated Annual Responses: 444.

Total Estimated Annual Hour Burden: 261.

Curtis B. Rich,
Management Analyst.

[FR Doc. 2015-32067 Filed 12-21-15; 8:45 am]

BILLING CODE 8025-01-P